DEPARTMENT OF HOUSING AND URBAN DEVELOPMENT

[Docket No. FR-4912-N-15]

Notice of Availability of a Draft Environmental Impact Statement for the Ashburton Avenue Urban Renewal Plan and Master Plan, Yonkers, Westchester County, NY

AGENCY: Office of the Assistant Secretary for Community Planning and Development, HUD.

ACTION: Notice.

SUMMARY: The Department of Housing and Urban Development gives notice to the public, agencies, and Indian tribes of the availability of the Draft Environmental Impact Statement (EIS) for review and comment for: (1) The Ashburton Avenue Urban Renewal Plan and Ashburton Avenue Master Plan and (2) the Mulford Gardens HOPE VI Revitalization Plan in the City of Yonkers, Westchester County, New York. The Draft EIS was prepared by the City of Yonkers, NY acting under its authority as the Responsible Entity for compliance with the National Environmental Policy Act of 1969 (NEPA) in accordance with 24 CFR 58.4. The Draft EIS has been prepared to satisfy the requirements of both NEPA and the New York State Environmental Quality Review Act of 1978, as amended (6 NYCRR part 617). The EIS and NEPA process will also be used to address historic preservation and cultural resource issues under Section 106 of the National Historic Preservation Act, 16 U.S.C. 470f. This notice is given in accordance with the Council on Environmental Quality regulations at 40 CFR parts 1500-1508.

The Draft EIS analyzes two interrelated actions: (1) The Ashburton Avenue Master Plan and Urban Renewal Plan and (2) the Mulford Gardens HOPE VI Revitalization Plan. The analysis of the Ashburton Avenue Master Plan and Urban Renewal Plan consists of a broad or generic discussion of the potential impacts resulting from the adoption of the two broad planning documents. The analysis of the Mulford Gardens HOPE VI Revitalization Plan, which is geographically contained within the Master Plan and Urban Renewal Area, is a site-specific analysis. Due to the timing of these two actions, both the generic Draft EIS for the Master Plan and Urban Renewal Plan and the site-specific EIS for the HOPE VI Revitalization Plan are contained in this one document. Each of the chapters in the document contains discussion and analysis for both the generic Master Plan and Urban Renewal Plan and the site-specific HOPE VI Revitalization Plan.

DATES: Written comments on the Draft EIS will be accepted for a period of 45 days, beginning on Monday, October 3, 2005 and ending at 5 p.m. on Wednesday, November 16, 2005. Written comments may be sent by mail or facsimile to the address listed below under FOR FURTHER INFORMATION CONTACT. Oral comments are welcome at a public hearing that will be held on October 20, 2005. The location and time of the public hearing will be published in local Yonkers newspapers on October 4, 2005.

FOR FURTHER INFORMATION CONTACT: Copies of the Draft EIS and Executive Summary are available upon request to the Lead Agency, care of Stephen Whetstone, Commissioner of Planning and Development, City of Yonkers, 87 Nepperhan Avenue, Suite 312, Yonkers NY 10701-3874. Telephone: (914) 377-6565. Fax: (914) 377-6672. Web site: steve.whetstone@cityofyonkers.com. Copies are also available for review at the Yonkers Riverfront Library, 1 Larkin Center, Yonkers, NY 10701.

Need for the EIS: The City of Yonkers has determined that the Proposed Action constitutes an action which has the potential to affect the quality of the human environment in terms of socioeconomics, housing and improvements to the existing transportation system. Therefore the City, as Lead Agency, has prepared an EIS to examine the potential impacts of implementing the components of the Master Plan and Urban Renewal Plan. Since it is anticipated that transportation improvements and new residential construction will be at least in part funded with federal monies, the City has prepared the EIS in accordance with NEPA. Additionally, insofar as the Proposed Action includes a residential component, it is subject to the Yonkers Affordable Housing Ordinance, Article XV of the Code of the City of Yonkers. The Decision of the United States District Court in D'Agnillo v. United States Department of Housing and Urban Development, 1999 WL 350870 (S.D.N.Y. 1999), requires environmental review under NEPA of all housing projects which are subject to the Affordable Housing Ordinance.

SUPPLEMENTARY INFORMATION: On April 18, 2005 (70 FR 20160), the Federal Register published the Notice of Intent to Prepare an EIS. The Draft EIS evaluates the potential impacts of the Proposed Action which consists of the preparation of an Urban Renewal Plan and Master Plan for approximately 44-acres in downtown Yonkers, Westchester County, NY, and the redevelopment of the Mulford Gardens public housing complex and eight sites on nearby blocks financed, in part, by a HOPE VI grant to the Municipal Housing Authority for the City of Yonkers. Associated actions include condemnation and conveyance of real property; expansion of the Ashburton Avenue right-of-way and street demapping actions as applicable; amendments to the City Zoning Code and zoning map; applications for site plan and subdivision approvals; and potential applications by the City for State and/or Federal funding to accomplish any of the foregoing.

The Urban Renewal Area (URA) is located on the west side of Yonkers, north of the downtown and west of the Saw Mill River Parkway. The area encompasses approximately 600 parcels along and near Ashburton Avenue, between Warburton Avenue and Yonkers Avenue. The area was selected by the City as a potential URA to tie into the redevelopment of Mulford Gardens, the City's oldest public housing complex, which is located on 12 acres within the boundaries of the proposed URA. Due to its age and substandard housing condition of its 552 units, Mulford Gardens is slated for demolition. The City's Municipal Housing Authority was awarded a HOPE VI grant to demolish and reconstruct housing on and around the existing Mulford Gardens site. Proposed HOPE VI residential development will occur on the existing 12-acre Mulford Gardens site, with additional residential, community facility and retail development to occur on eight surrounding sites within the Ashburton Avenue URA.

The Urban Renewal Plan will be used as a revitalization strategy to improve the residential character of the area, expand business opportunities and improve the transportation network. The Master Plan for the URA will include: the provision of a range of housing opportunities; mixed use development along Ashburton Avenue; and transportation improvements, including street widenings along Ashburton Avenue to improve east-west access between the Saw Mill River Parkway and the Downtown Waterfront District, allow on-street parking, reduce traffic congestion and allow for an upgraded sidewalk and streetscape plan.

The Draft EIS analyzes three alternatives to the proposed action for revitalizing the Ashburton Avenue area and improving the transportation network: (1) A no action alternative, i.e., the Ashburton Avenue right-of-way is not widened and Mulford Gardens is not redeveloped under the HOPE VI program, (2) the Ashburton Avenue right-of-way is not widened along all segments of the roadway, and (3) the Mulford Gardens/HOPE VI revitalization plan is reduced/modified in scale.

Questions may be directed to the individual named above under the heading FOR FURTHER INFORMATION CONTACT.

Dated: September 19, 2005.
Pamela H. Patenaude,
Assistant Secretary for Community Planning and Development.

[FR Doc. 05-19297 Filed 9-27-05; 8:45 am]

BILLING CODE 4210-29-P